DEPARTMENT OF THE INTERIOR

National Park Service

[N6370; NPS-WASO-NAGPRA-NPS0040640; PPWOCRADN0-PCU00RP14.R50000]

Notice of Intended Disposition: U.S. Department of the Air Force, Vandenberg Space Force Base, Santa Barbara County, CA

AGENCY: National Park Service, Interior.

ACTION: Notice.

SUMMARY: In accordance with the Native American Graves Protection and Repatriation Act (NAGPRA), the Department of the Air Force, Vandenberg Space Force Base intends to carry out the disposition of human remains and cultural items removed from Federal land to the Santa Ynez Band of Chumash Indians (SYBCI) who has priority for disposition in this notice.

DATES: Disposition of the human remains and cultural items in this notice may occur on or after August 28, 2025. If no claim for disposition is received by July 29, 2026, the human remains and cultural items in this notice will become unclaimed human remains and cultural items.

ADDRESSES: Send written claims for disposition of the human remains and cultural items in this notice to Josh Smallwood, Vandenberg Space Force Base Cultural Resources, Installation Tribal Liaison Officer/Cultural Resources Manager, SLD 30 CES/CEIEA, 1028 Iceland Avenue, Building 11146, Vandenberg Space Force Base, CA 93437-6010, email stacy.smallwood@spaceforce.mil.

SUPPLEMENTARY INFORMATION: This notice is published as part of the National Park Service's administrative responsibilities under NAGPRA. The determinations in this notice are the sole responsibility of the Department of the Air Force, and additional information on the human remains and cultural items in this notice, including the results of consultation, can be found in the related records. The National Park Service is not responsible for the identifications in this notice.

Abstract of Information Available

In support of mitigation activities carried out near Launch Facility-04 for the Sentinel Test Program, the Department of the Air Force, Vandenberg Space Force Base conducted data recovery excavations at archaeological site CA-SBA-512, the ethnohistoric Chumash village of Lospe between October 2021 and June 2023. At Locus 2, which has been identified as an ancient shell mound, four test excavation units and 18 shovel test pits were excavated. Two of the test units encountered human remains. The human remains were left in place in the test units in accordance with the project's NAGPRA Plan of Action.

After consultation with the Tribe, consideration of tribal traditional knowledge regarding shell mound funerary practices, and further analysis of the collection, it has been determined that the artifacts from the other two test units and all 18 shovel test pits excavated in the shell mound should be considered unassociated funerary items under NAGPRA. These excavations contained fragments of bone hair pins, fishhooks, shell beads, steatite beads, obsidian and chert projectile points, and burned or broken milling implements which could be associated with burials at that location that have since disintegrated, were removed historically, or were not intersected by the recent excavations. Native American shell mounds found along the California coast such as this one are known for containing human burials, and while no human remains were found, artifacts suggestive of human interments are present in the shell mound. Based on the information available from two spatially separate test excavation units, human remains representing at least two individuals have been reasonably identified at the shell mound. A total of 1,063 associated funerary objects were identified in the two excavation units which had human remains, including flaked and ground stone tools, debitage, shell beads, pendants and fishhooks, ground and polished stone, and faunal remains. A total of 2,595 unassociated funerary objects were identified in the other two units and 18 shovel test pits, again including flaked and ground stone tools, debitage, shell beads, pendants and fishhooks, ground and polished stone, and faunal remains. No objects of cultural patrimony or sacred objects were identified.

Determinations

The Department of the Air Force, Vandenberg Space Force Base has determined that:

• The human remains described in this notice represent the physical remains of at least two individuals of Native American ancestry encountered in the shell mound.

• The 1,063 objects described in this notice are reasonably believed to have been placed intentionally with or near individual human remains at the time of death or later as part of the death rite or ceremony.

• The 2,595 unassociated funerary objects described in this notice are reasonably believed to have been placed intentionally with or near human remains, and are connected, either at the time of death or later as part of the death rite or ceremony of a Native American culture according to Native American traditional knowledge. The unassociated funerary objects have been identified by a preponderance of the evidence as related to human remains, specific individuals, or families with cultural affiliation to the Chumash.

• The Santa Ynez Band of Chumash Mission Indians of the Santa Ynez Reservation, California has priority for disposition of the human remains and cultural items described in this notice.

Claims for Disposition

Written claims for disposition of the human remains and cultural items in this notice must be sent to the appropriate official identified in this notice under ADDRESSES. If no claim for disposition is received by July 29, 2026, the human remains and cultural items in this notice will become unclaimed human remains and cultural items. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and cultural items in this notice may occur on or after August 28, 2025. If competing claims for disposition are received, the Department of the Air Force, Vandenberg Space Force Base must determine the most appropriate claimant prior to disposition. Requests for joint disposition of the human remains and cultural items are considered a single request and not competing requests. The Department of the Air Force, Vandenberg Space Force Base is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: July 16, 2025.
Mariah Soriano,
Acting Manager, National NAGPRA Program.

[FR Doc. 2025-14263 Filed 7-28-25; 8:45 am]

BILLING CODE 4312-52-P